DEPARTMENT OF THE INTERIOR

Bureau of Land Management

[NV-912-1640-PH; 08-08807; TAS: 14X1109]

Notice Public Meetings: Northeastern Great Basin Resource Advisory Council, Nevada

AGENCY: Bureau of Land Management, Interior.

ACTION: Notice of Fiscal Year 2008 Meetings Locations and Times for the Northeastern Great Basin Resource Advisory Council.

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below.

DATES AND TIMES: The RAC will meet three times in Fiscal Year 2008: On February 21, at the BLM Ely Field Office at 702 North Industrial Way, Ely, Nevada; on April 24, at the BLM Battle Mountain Field Office, 50 Bastian Road, Battle Mountain, Nevada; and on June 19 and 20, at the Cactus Pete Resort, 1385 Highway 93, Jackpot, Nevada. All meetings are open to the public. Meeting times are 8 a.m. to 4 p.m. and will include a general public comment period, where the public may submit oral or written comments to the RAC. Each public comment period will begin at approximately 1 p.m. unless otherwise listed in each specific, final meeting agenda.

FOR FURTHER INFORMATION CONTACT: Mike Brown, Public Affairs Officer, Elko Field Office, 3900 E. Idaho Street, Elko, NV 89801. Telephone: (775) 753-0386. E-mail: mbrown@nv.blm.gov.

SUPPLEMENTARY INFORMATION: The 15-member Council advises the Secretary of the Interior, through the BLM, on a variety of planning and management issues associated with public land management in Nevada.

Topics for discussion at each meeting will include, but are not limited to:

• February 21, (Ely, Nevada)—NEPA, Eastern Nevada Landscape Coalition, Grazing Permit Renewals, Ely RMP, and Healthy Lands Initiative;

• April 24, (Battle Mountain, Nevada)—Southern Nevada Public Lands Management Act Projects, Split Estate, Energy Projects (Wind, Solar, and Geothermal), and Southern Nevada Water Authority Project;

• June 19 and 20, (Jackpot, Nevada)—Wind Energy Tour, Fire, Western Watersheds Project, Battle Mountain RMP update, and Grazing Permit Renewal;

Managers' reports of field office activities will be given at each meeting. The council may raise other topics at any of the three planned meetings.

Final detailed agendas, with any additions/corrections to agenda topics, locations, field trips and meeting times, will be sent to local and regional media sources at least 14 days before each meeting. Individuals who need special assistance such as sign language interpretation or other reasonable accommodations, or who wish to receive a copy of each agenda, should contact Mike Brown, Elko Field Office, 3900 East Idaho Street, Elko, NV 89801, telephone (775) 753-0386 no later than 10 days prior to each meeting.

Dated: December 7, 2007.
Kenneth E. Miller,
District Manager.

[FR Doc. E7-24322 Filed 12-14-07; 8:45 am]

BILLING CODE 4310-HC-P